DEPARTMENT OF ENERGY

Federal Energy Regulatory Commission

Combined Notice of Filings #1

Take notice that the Commission received the following electric corporate filings:

Docket Numbers: EC21-133-000.

Applicants: Maverick Solar 6, LLC, Maverick Solar 7, LLC.

Description: Joint Application for Authorization Under Section 203 of the Federal Power Act of Maverick Solar 6, LLC, et al.

Filed Date: 9/13/21.

Accession Number: 20210913-5247.

Comment Date: 5 pm ET 10/4/21.

Take notice that the Commission received the following electric rate filings:

Docket Numbers: ER21-2424-001.

Applicants: Generation Bridge M&M Holdings, LLC.

Description: Tariff Amendment: Amendment to Market-Based Rate Application and Response to Deficiency Letter to be effective 7/15/2021.

Filed Date: 9/14/21.

Accession Number: 20210914-5161.

Comment Date: 5 pm ET 10/5/21.

Docket Numbers: ER21-2884-000.

Applicants: Midcontinent Independent System Operator, Inc.

Description: § 205(d) Rate Filing: 2021-09-14_SA 3438 Entergy Arkansas-Long Lake Solar 1st Rev GIA (J663 J834) to be effective 9/8/2021.

Filed Date: 9/14/21.

Accession Number: 20210914-5116.

Comment Date: 5 pm ET 10/5/21.

Docket Numbers: ER21-2885-000.

Applicants: Arizona Public Service Company.

Description: § 205(d) Rate Filing: Service Agreement No. 300 to be effective 11/14/2021.

Filed Date: 9/14/21.

Accession Number: 20210914-5118.

Comment Date: 5 pm ET 10/5/21.

Docket Numbers: ER21-2886-000.

Applicants: Old Middleboro Road Solar, LLC.

Description: Baseline eTariff Filing: Old Middleboro Road Solar, LLC MBR Application Filing to be effective 10/1/2021.

Filed Date: 9/14/21.

Accession Number: 20210914-5140.

Comment Date: 5 pm ET 10/5/21.

Docket Numbers: ER21-2887-000.

Applicants: Leicester Street Solar, LLC.

Description: Baseline eTariff Filing: Leicester Street Solar LLC MBR Application Filing to be effective 10/1/2021.

Filed Date: 9/14/21.

Accession Number: 20210914-5141.

Comment Date: 5 pm ET 10/5/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 14, 2021.
Debbie-Anne A. Reese,
Deputy Secretary.

[FR Doc. 2021-20252 Filed 9-17-21; 8:45 am]

BILLING CODE 6717-01-P